MORRIS K. UDALL SCHOLARSHIP AND EXCELLENCE IN NATIONAL ENVIRONMENTAL POLICY FOUNDATION

Committee Management; Notice of Establishment

Authority: 5 U.S.C. Appendix 2; 20 U.S.C. 5601-5609.

AGENCY: U.S. Institute for Environmental Conflict Resolution, Morris K. Udall Foundation.

ACTION: Notice.

SUMMARY: This notice is published in accordance with section 9(a) of the Federal Advisory Committee Act of 1972 (Pub. L. 92-463). The executive director of the Morris K. Udall Scholarship and Excellence in National Environmental Policy Foundation has determined that the establishment of the National ECR Advisory Committee is necessary and in the public interest in connection with the performance of duties imposed upon the U.S. Institute for Environmental Conflict Resolution (USIECR) by 20 U.S.C. 5601 et seq. This determination follows consultation with the Committee Management Secretariat, General Services Administration.

Name of Committee: National ECR Advisory Committee.

Purpose and Objective: The committee will provide advice to the director of the USIECR and to the Board of Trustees of the Morris K. Udall Foundation regarding future program directions, including the USIECR's role in connection with the implementation of Section 101 of the National Environmental Policy Act of 1969 (42 U.S.C. 4331).

Balanced Membership Plan: The committee will consist of a maximum of 30 members representing a balanced cross-section of viewpoints concerning environmental issues and the field of environmental conflict resolution. Among the interests represented will be environmental advocates, resource users, affected communities, state and/or local governments, tribes, federal environmental and resource management agencies, the conflict resolution and legal communities, and academic institutions.

Duration: The committee's duration will begin with the filing of the charter and continue for two years unless sooner terminated or renewed by the USIECR director.

Responsible Officials: The designated federal officer is Dr. Kirk Emerson, director of the U.S. Institute for Environmental Conflict Resolution, 110 S. Church Avenue, Suite 3350, Tucson, AZ 85701, telephone 520-670-5299.

Dated: August 26, 2002.
Ellen K. Wheeler,
Committee Management Officer.

[FR Doc. 02-22173 Filed 8-29-02; 8:45 am]

BILLING CODE 6820-FN-P